DEPARTMENT OF ENERGY

Federal Energy Regulatory Commission

[Docket No. RP01-373-000]

Northern Border Pipeline Company; Notice of Proposed Changes in FERC Gas Tariff

April 12, 2001.

Take notice that on April 9, 2001, Northern Border Pipeline Company (Northern Border) tendered for filing to become part of its FERC Gas Tariff, First Revised Volume No. 1, the following tariff sheets to become effective May 9, 2001:

Second Revised Sheet Number 269

Second Revised Sheet Number 270

First Revised Sheet Number 271

Third Revised Sheet Number 272

Northern Border states the purpose of this filing is to revise section 26 of the General Terms and Conditions of Northern Border's FERC Gas Tariff. Specifically, Northern Border proposes to separate the posting requirements between planned and available capacity in order to provide for three different posting periods dependent on the term of service for available capacity, provide for the selection of a method to determine Best Bid among the three methods permitted currently for capacity releases, and limit contingent bids to those bids for service greater than one year.

Northern Border states that copies of this filing have been sent to all of Northern Border's contracted shippers and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9553 Filed 4-17-01; 8:45 am]

BILLING CODE 6717-01-M